DEPARTMENT OF TRANSPORTATION

Federal Highway Administration

Notice To Rescind a Notice of Intent To Prepare an Environmental Impact Statement: North Second Street Connector Improvement, From Interstate 40 at North Second Street to U.S. 51/State Route 300, in Memphis, Shelby County, TN

AGENCY: Federal Highway Administration (FHWA), DOT.

ACTION: Notice to Rescind a Notice of Intent to prepare an Environmental Impact Statement.

SUMMARY: The Federal Highway Administration (FHWA) is issuing this notice to advise the public that the Notice of Intent published on November 7, 2002, at 67 FR 67893, to prepare a Environmental Impact Statement (EIS) for the proposed North Second Street Connector in Memphis, Shelby County, Tennessee, is being rescinded.

FOR FURTHER INFORMATION CONTACT: Mr. Charles J. O'Neill, Planning and Program Management Team Leader, FHWA—Tennessee Division Office, 640 Grassmere Park Road, Suite 112, Nashville, TN 37211. Phone: (615) 781-5772.

SUPPLEMENTARY INFORMATION: The FHWA, in cooperation with the Tennessee Department of Transportation, is rescinding the Notice of Intent (NOI) to prepare an EIS for North Second Street Connector in Memphis, Shelby County, Tennessee. The proposed project called for improving North Second Street and North Third Street to form a one-way pair from Interstate 40 to Chelsea Avenue and constructing a six-lane facility from Chelsea Avenue to the U.S. 51/State Route 300 Interchange in Memphis, Shelby County, Tennessee.

An EIS has not been completed for this proposal since the original NOI to prepare an EIS was published in the Federal Register on November 7, 2002. An EIS will be prepared and will evaluate all reasonable alternatives. The original NOI is being rescinded and a new NOI will be published subsequent to this NOI.

To ensure that the full range of issues related to this proposed action are identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program.)

Issued on: December 17, 2008.
Charles J. O'Neill,
Planning and Program Mgmt. Team Leader, Nashville, TN.

[FR Doc. E8-30570 Filed 12-23-08; 8:45 am]

BILLING CODE 4910-22-P